DEPARTMENT OF HEALTH AND HUMAN SERVICES

National Institutes of Health

Center for Scientific Review; Amended Notice of Meeting

Notice is hereby given of a change in the meeting of the Cardiac Contractility, Hypertrophy, and Failure Study Section, February 06, 2017, 8:00 a.m. to February 7, 2017, 4:00 p.m., Embassy Suites at the Chevy Chase Pavilion, 4300 Military Road NW., Washington, DC 20015 which was published in the Federal Register on January 11, 2017, 82 FR 3346.

This meeting will now be held at Ritz-Carlton Pentagon City, 1250 South Hayes Street, Arlington, VA 22202. The meeting date and time remain the same. The meeting is closed to the public.

Dated: January 18, 2017.
Natasha M. Copeland,
Program Analyst, Office of Federal Advisory Committee Policy.

[FR Doc. 2017-01572 Filed 1-24-17; 8:45 am]

BILLING CODE 4140-01-P